DEPARTMENT OF JUSTICE

Notice of Lodging of Three Consent Decrees Pursuant to the Comprehensive Environmental Response, Compensation, and Liability Act

Notice is hereby given that three proposed consent decrees in United States v. Drum Service Company of Florida, et al., Civil No. 98-697-Civ-Orl-28C, were lodged on June 28, 2001, with the United States District Court for the Middle District of Florida.

The first proposed consent decree (“Drum Service Consent Decree”) would resolve certain claims under Sections 106 and 107 of the Comprehensive Environmental Response, Compensation, and Liability Act of 1980, 42 U.S.C. 9607, as amended, against Drum Service Co. of Florida (“Drum Service”) for performance of response work and recovery of response costs incurred and to be incurred by the Environmental Protection Agency in connection with the release of hazardous substances at the Zellwood Groundwater Contamination Superfund Site (“Site”) in Zellwood, Orange County, Florida. The United States alleges that Drum Service is liable as a person who owns and operates a portion of the Site and who owned and operated a portion of the Site at the time of the release of a hazardous substance.

The proposed Drum Service Consent Decree would resolve the liability of Drum Service with respect to the Site. The proposed Drum Service Consent Decree would release claims against Drum Service for performance of the remedy selected in the Record of Decision entitled “Groundwater Operable Unit 2 (OU2) at the Zellwood Groundwater Contamination Site, Zellwood, Orange County, Florida” signed by the Environmental Protection Agency on August 23, 2000 (“ROD”). The proposed Drum Service Consent Decree would also release claims for response costs incurred and to be incurred by the Environmental Protection Agency in responding to releases and threatened releases of hazardous substances at and from the Site. To resolve these claims, Drum Service would perform the remedy selected in the ROD, would pay $3,000,000.00 to the Hazardous Substances Superfund to reimburse the United States for Past Response Costs, and would reimburse the United States for certain Future Response Costs. The proposed Drum Service Consent Decree includes a covenant not to sue by the United States under Sections 106 and 107 of the Comprehensive Environmental Response, Compensation, and Liability Act of 1980, 42 U.S.C. 9606 and 9607.

The second proposed consent decree (“Murphy Consent Decree”) would resolve certain claims under Sections 106 and 107 of the Comprehensive Environmental Response, Compensation, and Liability Act of 1980, 42 U.S.C. 9606, 9607, as amended, and Section 7003 of the Resource Conservation and Recovery Act, 42 U.S.C. 6973, against J. Michael Murphy, for performance of response work and recovery of response costs incurred and to be incurred by the Environmental Protection Agency in connection with the release and threatened release of hazardous substances at the Site. The United States alleges that Mr. Murphy is liable as a person who operated a portion of the Site at the time of the release of a hazardous substance.

The proposed Murphy Consent Decree would resolve the liability of Mr. Murphy with respect to the Site. The proposed Murphy Decree would release claims against Mr. Murphy for performance of the remedy selected in the ROD, and for response costs incurred and to be incurred by the Environmental Protection Agency in responding to releases and threatened releases of hazardous substances at and from the Site. To resolve these claims, Mr. Murphy agrees to held jointly and severally liable for the $3,000,000.00 payment to be made by Drum Service pursuant to the Drum Service Consent Decree. The proposed Murphy Consent Decree includes a covenant not to sue by the United States under Sections 106 and 107 of the Comprehensive Environmental Response, Compensation, and Liability Act of 1980, 42 U.S.C. 9606 and 9607, and under Section 7003 of the Resource Conservation and Recovery Act (“RCRA”), 42 U.S.C. 6973.

The third proposed consent decree (“Other Parties Consent Decree“) would resolve certain claims under Sections 106 and 107 of the Comprehensive Environmental Response, Compensation, and Liability Act of 1980, 42 U.S.C. 9606, 9607, as amended, and Section 7003 of the Resource Conservation and Recovery Act, 42 U.S.C. 6973, against Douglass Fertilizer & Chemical Co., Spencer Douglass, Mallory Corporation, the Estate of Irving Feinberg and CSX Transportation (collectively the “Other Parties”), for performance of response work and recovery of response costs incurred and to be incurred by the Environmental Protection Agency in connection with the release and threatened release of hazardous substances at the Site. The United States alleges that Douglass Fertilizer & Chemical Co. and Mallory Corporation are liable as persons who owned and operated a portion of the Site at the time of the release of a hazardous substance. The United States alleges that Spencer Douglass and the Estate of Irving Feinberg are liable as persons who operated a portion of the Site at the time of the release of a hazardous substance. The United States alleges that CSX Transportation is liable as a person who owned a portion of the Site at the time of the release of a hazardous substance.

The proposed Other Parties Consent Decree would resolve the liability of the Other Parties with respect to the Site. The proposed Other Parties Consent Decree would release claims against the Other Parties for performance of the remedy selected in the ROD, and would release claims for response costs incurred and to be incurred by the Environmental Protection Agency in responding to releases and threatened releases of hazardous substances in and from the Site. To resolve these claims, the Other Parties agree to pay a total of $381,000.00 to the Hazardous Substances Superfund. The proposed Other Parties Consent Decree includes a covenant not to sue by the United States under Sections 106 and 107 of the Comprehensive Environmental Response, Compensation, and Liability Act of 1980, 42 U.S.C. 9606 and 9607, and under Section 7003 of the Resource Conservation and Recovery Act (“RCRA”), 42 U.S.C. 6973.

In addition, the proposed Other Parties Consent Decree contains a covenant not to take administrative action under these statutes against six Settling Federal Agencies, including Defense Reutilization and Marketing Service (DRMS), United States Department of the Navy, United States Department of the Army, United States Department of the Air Force, United States Department of Energy, United States General Services Agency, and National Aeronautics & Space Administration. The Environmental Protection Agency would make this covenant in return for a payment by the six Settling Federal Agencies of $375,000.00 to the Hazardous Substances Superfund.

The Department of Justice will receive, for a period of thirty (30) days from the date of this publication, comments relating to the three proposed consent decrees. Commenters on the proposed Murphy Consent Decree and Other Parties Consent Decree may request an opportunity for a public meeting in the affected area, in accordance with Section 7003(d) of RCRA, 42 U.S.C. 6973(d). Comments should be addressed to the Assistant Attorney General for the Environment and Natural Resources Division, Department of Justice, PO Box 7611, Washington, DC 20530, and should refer to United States v. Drum Service Company of Florida, et al., M.D. FL, Civil No. 98-687-Civ-Orl-28C, DOJ Ref. #90-11-2-266 and #90-11-2-266/1.

The proposed consent decrees may be examined at the Region 4 Office of the Environmental Protection Agency, 61 Forsyth Street, Atlanta, GA 30303 and the United States Attorney's Office for the Middle District of Florida, Federal Building & U.S. Courthouse, 80 N. Hughey Avenue, Orlando, Florida 32801, c/o Assistant U.S. Attorney Roberto Rodriguez. A copy of the proposed consent decree may be obtained by mail from the Consent Decree Library, Post Office Box 7611, Washington, DC 20044. In requesting copies please refer to the referenced case and enclose a check in the amount of $58.00 for the Drum Service Consent Decree; $4.75 for the Murphy Consent Decree, and $7.50 for the Other Parties Consent Decree (25 cents per page reproduction costs), payable to the Consent Decree Library.

Ellen Mahan,
Assistant Section Chief, Environmental Enforcement Section, Environment and Natural Resources Division.

[FR Doc. 01-16754 Filed 7-3-01; 8:45 am]

BILLING CODE 4410-15-M